DEPARTMENT OF THE INTERIOR

National Park Service

[NPS-WASO-NAGPRA-17456;PPWOCRADN0-PCU00RP14.R50000]

Notice of Inventory Completion: History Colorado, Formerly Colorado Historical Society, Denver, CO

AGENCY: National Park Service, Interior.

ACTION: Notice.

SUMMARY: History Colorado has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to History Colorado. If no additional requestors come forward, transfer of control of the human remains to the Indian tribes or Native Hawaiian organizations stated in this notice may proceed.

DATES: Representatives of any Indian tribe or Native Hawaiian organization not identified in this notice that wish to request transfer of control of these human remains should submit a written request with information in support of the request to History Colorado at the address in this notice by March 6, 2015.

ADDRESSES: Sheila Goff, History Colorado, 1200 Broadway, Denver, CO 80203, telephone (303) 866-4531, email Sheila.goff@state.co.us.

SUPPLEMENTARY INFORMATION: Notice is here given in accordance with the Native American Graves Protection and Repatriation Act (NAGPRA), 25 U.S.C. 3003, of the completion of an inventory of human remains under the control of the History Colorado, Denver, CO.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by History Colorado professional staff in consultation with representatives of the Arapahoe Tribe of the Wind River Reservation, Wyoming; Cheyenne and Arapaho Tribes of Oklahoma (previously listed as the Cheyenne-Arapaho Tribes of Oklahoma); Comanche Nation, Oklahoma; Crow Tribe of Montana; Fort Sill Apache Tribe of Oklahoma; Hopi Tribe of Arizona; Jicarilla Apache Nation, New Mexico; Mescalero Apache Tribe of the Mescalero Reservation, New Mexico; Navajo Nation, Arizona, New Mexico & Utah; Northern Cheyenne Tribe of the Northern Cheyenne Indian Reservation, Montana; Ohkay Owingeh, New Mexico (previously listed as the Pueblo of San Juan); the Paiute Indian Tribe of Utah (Cedar Band of Paiutes, Kanosh Band of Paiutes, Koosharem Band of Paiutes, Indian Peaks Band of Paiutes, and Shivwits Band of Paiutes) (formerly the Paiute Indian Tribe of Utah (Cedar City Band of Paiutes, Kanosh Band of Paiutes, Koosharem Band of Paiutes, Indian Peaks Band of Paiutes, and Shivwits Band of Paiutes)); Pawnee Nation of Oklahoma; Pueblo of Acoma, New Mexico; Pueblo of Isleta, New Mexico; Pueblo of Jemez, New Mexico; Pueblo of Laguna, New Mexico; Pueblo of Nambe, New Mexico; Pueblo of Pojoaque, New Mexico, the Pueblo of Cochiti, New Mexico; Pueblo of San Ildefonso, New Mexico; the Pueblo of Santa Ana, New Mexico; Pueblo of Santa Clara, New Mexico; Pueblo of Tesuque, New Mexico; Rosebud Sioux Tribe of the Rosebud Indian Reservation, South Dakota; Shoshone Tribe of the Wind River Reservation, Wyoming; Southern Ute Indian Tribe of the Southern Ute Reservation, Colorado; Ute Indian Tribe of the Uintah & Ouray Reservation, Utah; Ute Mountain Tribe of the Ute Mountain Reservation, Colorado, New Mexico & Utah; Ysleta Del Sur Pueblo of Texas and Zuni Tribe of the Zuni Reservation, New Mexico. The Apache Tribe of Oklahoma; Kewa Pueblo, New Mexico (previously listed as the Pueblo of Santo Domingo); Kiowa Indian Tribe of Oklahoma; Oglala Sioux Tribe (previously listed as the Oglala Sioux Tribe of the Pine Ridge Reservation, South Dakota); Pueblo of Picuris, New Mexico; Pueblo of San Felipe, New Mexico; the Pueblo of Taos, New Mexico; the Pueblo of Zia, New Mexico; Shoshone-Bannock Tribes of the Fort Hall Reservation; and Standing Rock Sioux Tribe of North & South Dakota were invited to consult but did not participate. Hereafter, all tribes listed above are referred to as “The Consulted and Invited Tribes.”

History and Description of the Remains

In 1967, History Colorado received a collection of 679 Native American archeological, ethnographic, and historic objects from the estate of Vida F. Ellison, a collector who predominately collected in the American Southwest. Included in the donation were human remains, representing at minimum, two individuals, O.7451.356 and O.7451.357. There is no documentation as to where they were removed from or when. No known individuals were identified. No associated funerary objects are present.

In 1961, a collection of Native American archaeological materials was purchased from Tom O. Kimball, a collector who predominately collected in the American Southwest. In 2004, human remains, representing at minimum, one individual (O.7398.17.A), were found in a Coconino gray pitcher in the collection. There is no documentation as to where they were removed from and when. It is unknown if there is a relationship between the remains and the pitcher. No known individuals were identified. No associated funerary objects are present.

In 2008, human remains representing, at minimum, two individuals (R.2.2008) were found in collections in a box with a mailing label from the Museum of Northern Arizona (MNA). Pottery sherds and photographs were also in the box. There is no documentation as to where the remains were removed from and when. No known individuals were identified. No associated funerary objects are present. It was not possible to determine an association of remains with MNA or the other items in the box.

Pursuant to 43 CFR 10.16, the Secretary of the Interior may make a recommendation for a transfer of control of culturally unidentifiable human remains. In November 2014, History Colorado requested that the Secretary, through the Native American Graves Protection and Repatriation Review Committee, recommend the proposed transfer of control of the culturally unidentifiable Native American human remains in this notice to the Southern Ute Indian Tribe of the Southern Ute Reservation, Colorado and Ute Mountain Tribe of the Ute Mountain Reservation, Colorado, New Mexico & Utah. The Review Committee, acting pursuant to its responsibility under 25 U.S.C. 3006(c)(5), considered the request at its November 2014 meeting and recommended to the Secretary that the proposed transfer of control proceed. A December 29, 2014 letter on behalf of the Secretary of Interior from the Associate Director, Cultural Resources, Partnerships, and Science transmitted the Secretary's independent review and concurrence with the Review Committee that:

• History Colorado consulted with every appropriate Indian tribe or Native Hawaiian organization,

• none of The Consulted and Invited Tribes objected to the proposed transfer of control, and

• History Colorado may proceed with the agreed upon transfer of control of the culturally unidentifiable human remains to the Southern Ute Indian Tribe of the Southern Ute Reservation, Colorado and Ute Mountain Tribe of the Ute Mountain Reservation, Colorado, New Mexico & Utah.

Transfer of control is contingent on the publication of a Notice of Inventory Completion in the Federal Register. This notice fulfills that requirement.

Determinations Made by History Colorado

Officials of History Colorado have determined that:

• Pursuant to 25 U.S.C. 3001(9), the human remains described in this notice are Native American based on osteological analysis conducted by Dr. Catherine Gaither and the collecting habits of the collectors, when known.

• Pursuant to 25 U.S.C. 3001(9), the human remains described in this notice represent the physical remains of 5 individuals of Native American ancestry.

• Pursuant to 25 U.S.C. 3001(2), a relationship of shared group identity cannot be reasonably traced between the Native American human remains and any present-day Indian tribe.

• Pursuant to 43 CFR 10.16, the disposition of the human remains will be to the Southern Ute Indian Tribe of the Southern Ute Reservation, Colorado and Ute Mountain Tribe of the Ute Mountain Reservation, Colorado, New Mexico & Utah.

Additional Requestors and Disposition

Representatives of any Indian tribe or Native Hawaiian organization not identified in this notice that wish to request transfer of control of these human remains should submit a written request with information in support of the request to Sheila Goff, History Colorado, 1200 Broadway, Denver, CO 80203, telephone (303) 866-4531, email Sheila.goff@state.co.us.by March 6, 2015. After that date, if no additional requestors have come forward, transfer of control of the human remains to the Southern Ute Indian Tribe of the Southern Ute Reservation, Colorado and and Ute Mountain Tribe of the Ute Mountain Reservation, Colorado, New Mexico & Utah may proceed.

History Colorado is responsible for notifying “The Consulted and Invited Tribes” that this notice has been published.

Dated: January 8, 2015.
Melanie O'Brien,
Acting Manager, National NAGPRA Program.

[FR Doc. 2015-02191 Filed 2-3-15; 8:45 am]

BILLING CODE 4312-50-P